ENVIRONMENTAL PROTECTION AGENCY

[EPA-HQ-OW-2003-0017; FRL-8472-7]

Agency Information Collection Activities; Submission to OMB for Review and Approval; Comment Request; Underground Injection Control (UIC) Program (Renewal); EPA ICR No. 0370.21; OMB Control No. 2040-0042

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 25, 2007.

ADDRESSES: Submit your comments, referencing Docket ID No. EPA-HQ-OW-2003-0017, to (1) EPA online using www.regulations.gov (our preferred method), by e-mail to OW-Docket@epa.gov, or by mail to: EPA Docket Center, Environmental Protection Agency, Water Docket, MC 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Robert E. Smith, Office of Ground Water and Drinking Water/Drinking Water Protection Division/Underground Injection Control Program, 4606M, Environmental Protection Agency, 1200 Pennsylvania Ave., NW., Washington, DC 20460; telephone number: 202-564-3895; fax number: 202-564-3756; e-mail address: smith.Robert-eu@epa.gov.

SUPPLEMENTARY INFORMATION: EPA has submitted the following ICR to OMB for review and approval according to the procedures prescribed in 5 CFR 1320.12. On February 28, 2007 (72 FR 8983), EPA sought comments on this ICR pursuant to 5 CFR 1320.8(d). EPA received no comments. Any additional comments on this ICR should be submitted to EPA and OMB within 30 days of this notice.

EPA has established a public docket for this ICR under Docket ID No. EPA-HQ-OW-2003-0017, which is available for online viewing at www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Underground Injection Control (UIC) Program (Renewal).

ICR numbers: EPA ICR No. 0370.21, OMB Control No. 2040-0042.

ICR Status: This ICR is scheduled to expire on September 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Underground Injection Control (UIC) Program under the Safe Drinking Water Act established a Federal and State regulatory system to protect underground sources of drinking water (USDWs) from contamination by injected fluids. Owners/operators of underground injection wells must obtain permits, conduct environmental monitoring, maintain records, and report results to EPA or the State UIC primacy agency. States must report to EPA on permittee compliance and related information. The mandatory information is reported using standardized forms and annual reports, and the regulations are codified at 40 CFR Parts 144 through 148. The data are used by UIC authorities to ensure the protection of USDWs.

Burden Statement: The annual public reporting and recordkeeping burden for this collection of information is estimated to average 2.35 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners and operators of injection wells and state UIC Program primacy agencies.

Estimated Number of Respondents: 38,824.

Frequency of Response: yearly, semi-annually, quarterly, and other.

Estimated Total Annual Hour Burden: 1,000,648 hours.

Estimated Total Annual Cost: $139,632,191, includes $104,697,829 in annualized capital or O&M costs.

Changes in the Estimates: There is a decrease of 335,409 hours in the total estimated burden currently identified in the OMB Inventory of Approved ICR Burdens. This decrease primarily reflects abatement of permitting and closure activities under the 1999 Class V Rule; reduced Class V well inventory activities; and a reduction in the Class II inventory, particularly the number of Class II permit applications that operators will submit during the clearance period.

Dated: September 14, 2007.
Robert Gunter,
Acting Director, Collection Strategies Division.

[FR Doc. E7-18847 Filed 9-24-07; 8:45 am]

BILLING CODE 6560-50-P